DEPARTMENT OF HOUSING AND URBAN DEVELOPMENT

[Docket No. FR-5600-FA-39]

Announcement of Funding Awards for Fiscal Year 2012/2013; Strong Cities, Strong Communities National Resource Network

AGENCY: Office of the Assistant Secretary for Policy Development and Research, HUD.

ACTION: Announcement of funding award.

SUMMARY: In accordance with Section 102(a)(4)(C) of the Department of Housing and Urban Development (HUD) Reform Act of 1989, this document notifies the public of funding awards for the Fiscal Year 2012/2013 Strong Cities, Strong Communities National Resource Network (SC2 Network). The purpose of this document is to announce the name and address of the award winner and the amount of the award to be used to provide comprehensive technical assistance to distressed communities across the country.

FOR FURTHER INFORMATION CONTACT: Kheng Mei Tan, Office of Policy, Development and Research (PD&R), U.S. Department of Housing and Urban Development, Room 8116, 451 Seventh Street SW., Washington, DC 20410, Telephone (202) 402-4986. To provide service for persons who are hearing- or speech-impaired, this number may be reached via TTY by dialing the Federal Information Relay Service on (800) 877-8339 or (202) 708-1455. (Telephone numbers, other than “800” TTY numbers, are not toll free).

SUPPLEMENTARY INFORMATION: One of four key components to the White House Strong Cities, Strong Communities Initiative (SC2), the SC2 Network is a capacity building program targeted to assisting the nation's most distressed communities. The SC2 Network will function as a central portal to connect distressed places to a wide-array of national and local experts who would help communities address their broad economic challenges. As described in the Notice of Funding Availability (NOFA) for the SC2 Network, HUD will make one award of approximately $10 million to an entity or consortium to execute the SC2 Network. The grant will be awarded as a cooperative agreement for a three-year period.

The White House Council on Strong Cities, Strong Communities and PD&R administers this program. In addition to this program, PD&R administers another key component of the White House SC2 initiative—the SC2 Fellowship Placement Pilot Program that places early-to-mid career professionals into distressed communities to work on a broad range of strategic projects.

The Catalog of Federal Domestic Assistance number for this program is 14.534.

On November 28, 2012, a SC2 Network NOFA was posted on Grants.gov announcing the availability of approximately $10 million in FY 2012 to administer the program. The Department reviewed, evaluated and scored the applications received based on the criteria in the NOFA. As a result, HUD has funded the application announced below, and in accordance with Section 102(a)(4)(C) of the Department of Housing and Urban Development Reform Act of 1989 (103 Stat. 1987, U.S.C. 3545).

Dated: May 1, 2013.
Jean Lin Pao,
General Deputy Assistant Secretary for Policy, Development and Research.

List of Awardee for Grant Assistance Under the Fiscal Year 2012/2013 Strong Cities, Strong Communities National Resource Network Competition, by Institution, Address, and Grant Amount

1. Enterprise Community Partners, Inc. (lead applicant), 10227 Wincopin Circle, Columbia, MD 21044 Grant: $9,879,360.

[FR Doc. 2013-11032 Filed 5-8-13; 8:45 am]

BILLING CODE 4210-67-P